DEPARTMENT OF TRANSPORTATION

Federal Aviation Administration

[Docket No. 2120-0671]

Agency Information Collection Activities: Request for Renewal of a Previously Approved Information Collection(s): Safety Management Systems for Part 121 Certificate Holders

AGENCY: Federal Aviation Administration (FAA), DOT.

ACTION: Notice and request for comments.

SUMMARY: In accordance with the Paperwork Reduction Act of 1995, FAA invites public comments about our intention to request the Office of Management and Budget (OMB) approval to reinstate with change an information collection used to support the analysis of safety data as part of the Safety Management System requirement for part 121 certificate holders. The information collected will be used to identify hazards and show ongoing compliance with part 5, Safety Management Systems.

DATES: Written comments should be submitted by February 11, 2022.

ADDRESSES: Written comments and recommendations for the proposed information collection should be sent within 30 days of publication of this notice to www.reginfo.gov/public/do/PRAMain. Find this particular information collection by selecting

“Currently under 30-day Review—Open for Public Comments” or by using the search function.

FOR FURTHER INFORMATION CONTACT: Sean Denniston, Safety Management Program Office (AFS-910), by email at: sean.denniston@faa.gov or by phone: 571-758-7362.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0763.

Title: Agency Information Collection Activities: Request for Renewal of a Previously Approved Information Collection(s); Safety Management Systems for Part 121 Certificate Holders.

Form Numbers: None.

Type of Review: Renewal of an Information Collection with changes.

Background: The information collected involves the collection and analysis of safety data as part of a Safety Management System (SMS), as required for part 121 by 14 CFR part 5, Safety Management Systems. The information to be collected will continue to be used to show compliance with part 5.

The existing information collection included the submission of SMS Implementation Plans to the FAA by March 9, 2018. That portion of the information collection has been completed and only new applicants for a part 121 certificate will be required to submit SMS Implementation Plans in the future. While the burden for existing part 121 certificate holders is significantly reduced, it is anticipated there will be some ongoing recordkeeping requirements for part 5 compliance.

A 60-Day Federal Register Notice and request for comments was published on June 20, 2018 (83 FR 28758) and a 30-Day Federal Register Notice and request for comments was published on September 17, 2018 (83 FR 46990). The FAA did not receive any comments on either notice. Since the 60-Day and 30-Day notices, there are changes to the original request and an additional 60-Day Federal Register Notice was published on December 9, 2020 (85 FR 79256). The current number of certificate holders in 2020 is 68 compared to 90 in 2015. The 68 part 121 certificate holders implemented a Safety Management System by the March 9, 2018 part 5 deadline. The burden analysis has been revised reflecting part 121 SMS implementation, revised industry numbers, and analysis of post-implementation recordkeeping.

Respondents: All 68 existing part 121 certificate holders.

Frequency: Implementation Plan collection: 1 future applicant for part 121 certificate (anticipating no more than one new applicant a year). Recordkeeping requirement: Annual recordkeeping requirements for all 68 existing part 121 certificates.

Air carrier groups | Number of air carriers
Large (50+ aircraft) | 25
Medium (10-49 aircraft) | 19
Small (<9 aircraft) | 24
Number of Operators | 68

Respondents:

Summary (annual number) | Reporting | Recordkeeping | Disclosure
Large Air Carrier
Number of Respondents |  | 25 | N/A
Number of Responses per Respondents |  | 1 | N/A
Time per Response |  | 2,000 | N/A
Total Number of Responses |  | 25 | N/A
Total burden (hours) |  | 50,000 | N/A
Medium Air Carrier
Number of Respondents |  | 19 | N/A
Number of Responses per Respondents |  | 1 | N/A
Time per Response |  | 4,000 | N/A
Total Number of Responses |  | 19 | N/A
Total burden (hours) |  | 76,000 | N/A
Small Air Carrier
Number of Respondents |  | 24 | N/A
Number of Responses per Respondents |  | 1 | N/A
Time per Response |  | 1,000 | N/A
Total Number of Responses |  | 24 | N/A
Total burden (hours) |  | 24,000 | N/A

Estimated annual collection activity for one new medium part 121 air carrier.

Summary (annual number) | Gap analysis | Implementation plan | SMS
Number of Respondents |  | 1 |
Number of Responses per Respondents |  | 1 |
Time per Response |  | 2,732 |
Total number of responses |  | 1 |
Total burden (hours) |  | 2,732 |

Estimated Average Burden per Response: 2,732 Hours.

Estimated Total Annual Burden: Large Air Carriers 50,000, Medium Air Carriers 76,000, Small Air Carriers 24,000, total annual burden 150,000 hours.

Robert C. Carty,
Acting Executive Director, Flight Standards Service, AFX-1.

[FR Doc. 2022-00471 Filed 1-11-22; 8:45 am]

BILLING CODE 4910-13-P